NATIONAL FOUNDATION ON THE ARTS AND THE HUMANITIES

National Endowment for the Arts

30-Day Notice for the “HBCU Research Study”; Proposed Collection; Comment Request

AGENCY: National Endowment for the Arts, National Foundation on the Arts and the Humanities.

ACTION: Notice, request for comments, collection of information.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed collection of information from Historically Black Colleges and Universities (HBCUs) for the HBCU Research Study. A copy of the current information collection request can be obtained by contacting the office listed below in the address section of this notice.

DATES: Written comments must be submitted to the office listed in the address section below within 30 days from the date of this publication in the Federal Register.

ADDRESSES: Written comments and recommendations for the proposed information collection should be sent within 30 days from the date of publication of this Notice to www.reginfo.gov/public/do/PRAMain. Find this particular information collection by selecting, “National Endowment for the Arts” under “Currently Under Review;” then check “Only Show ICR for Public Comment” checkbox. Once you have found this information collection request, select “Comment,” and enter or upload your comment and information. Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: HBCU Web Survey and Case Study Focus Group Data Collection.

OMB Number: New.

Type of Review: Regular.

Frequency: One-time web survey and focus group data collection.

Affected Public: Individuals and Households; Businesses and Organizations; State, Local or Tribal Government.

Estimated Number of Respondents: 311.

Estimated Annual Time per Respondent (Hours): 0.73.

Total Annual Burden Hours: 225.5.

Total Annualized Capital/Startup Costs: 0.

Total Annual Costs (operating/maintaining systems or purchasing services): The total one-time contracted cost to the Federal Government for survey and focus group guide development, cognitive testing of the survey, and data collection and analysis is $98,672.20.

Description: This is a request for clearance for the National Endowment for the Arts (NEA) to conduct a web survey of Historically Black Colleges and Universities (HBCUs) and focus groups across three HBCUs selected for case studies as part of a mixed-methods study on how HBCUs currently support the arts and arts education as preparatory to careers in the arts and in transdisciplinary fields. The planned data collection is a new information collection request, and the data to be collected are not available elsewhere unless obtained through this information collection. Both are one time data collections.

In 2021, the HBCU Interagency Working Group (IWG) published agency competitiveness plans in a Federal HBCU Competitiveness Strategy, based on a Federal HBCU Competitiveness Framework, thus creating a government-wide plan to improve conditions under which HBCUs compete for federal opportunities.

The NEA's HBCU Competitiveness Plan provides a vision for the NEA's work with HBCUs. Outreach to HBCUs is a distinct priority of the NEA. The agency's vision is that, over time, every HBCU successfully will apply for funding opportunities through the NEA. To facilitate HBCU engagement with federal and state grant opportunities in the arts, it is desirable to understand, within these institutions, the nature and extent of arts and cultural assets (i.e., programs and facilities)—including arts and arts education (curricular and extra-curricular)—and of partnerships with national, state, and local arts organizations and funders. It is also desirable to know about the role of HBCUs' arts and cultural assets within the context of colleges and universities serving as anchor institutions, how HBCUs' arts and cultural training is preparing students to enter careers in the creative economy and in transdisciplinary fields, and what barriers and opportunities exist in HBCUs' pursuit of relationships with arts and cultural organizations and public and private funders. Accordingly, as part of its commitment to supporting HBCUs, and consistent with the IWG's ongoing work, the NEA seeks to conduct this mixed-methods study.

Dated: May 20, 2024.
RaShaunda Thomas,
Administrative Officer (Deputy), Office of Administrative Services & Contracts, National Endowment for the Arts.

[FR Doc. 2024-11380 Filed 5-22-24; 8:45 am]

BILLING CODE 7537-01-P